DEPARTMENT OF ENERGY

Federal Energy Regulatory Commission

[ Project No. 14241-000]

Alaska Energy Authority; Notice of Proposed Restricted Service List for a Programmatic Agreement for Managing Properties Included in or Eligible for Inclusion in the National Register of Historic Places

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR section 385.2010.

The Commission staff is consulting with the Alaska State Historic Preservation Officer (hereinafter, Alaska SHPO), and the Advisory Council on Historic Preservation (hereinafter, Council) pursuant to the Council's regulations, 36 CFR Part 800, implementing section 106 of the National Historic Preservation Act, as amended, (16 U.S.C. section 470 f), to prepare and execute a programmatic agreement for managing properties included in, or eligible for inclusion in, the National Register of Historic Places at the Susitna-Watana Hydroelectric Project No. 14241.

The programmatic agreement, when executed by the Commission and the Alaska SHPO would satisfy the Commission's section 106 responsibilities for all individual undertakings carried out in accordance with the license until the license expires or is terminated (36 CFR 800.13[e]). The Commission's responsibilities pursuant to section 106 for the Susitna-Watana Project would be fulfilled through the programmatic agreement, which the Commission proposes to draft in consultation with certain parties listed below. The executed programmatic agreement would be incorporated into any Order issuing a license.

Alaska Energy Authority, as the prospective licensee applicant for the Proposed Susitna-Watana Hydroelectric Project No. 14241, and the parties below have expressed an interest in this preceding and are invited to participate in consultations to develop the programmatic agreement.

For purposes of commenting on the programmatic agreement, we propose to restrict the service list for the aforementioned project as follows:

John Eddins or Representative, Office of Planning and Review, Advisory Council on Historic Preservation, 1100 Pennsylvania Ave. NW., Suite 809, Washington, DC 20004

Ethan Schutt or Representative, Cook Inlet Region, Inc., 2525 C St. #500, Anchorage, AK 99503

Tom Harris or Representative, Knikatnu, Inc., P.O. Box 872130, Wasilla, AK 99687-2130

Don Kashevaroff or Representative, Seldovia Native Association, Inc., 700 E. Dimond Blvd., Anchorage, AK 99515

Bart Garber or Representative, Tyonek Native Corporation, Inc., 1689 C Street, Suite 219, Anchorage, AK 99501-5131

Col. Christopher Lestochi or Representative, U.S. Army Corps of Engineers, Box 6898, JBER, AK 99506-0898

Kathryn Martin or Representative, Ahtna Incorporated, P.O. Box 649, Glennallen, AK 99588

Judith Bittner or Representative, Alaska State Historic Preservation Office/Office of History and Archeology, 550 W. 7th Ave., Suite 1310, Anchorage, AK 99501-3565

Gary Stevig or Representative, Chickaloon Moose-Creek Native Assoc. Inc., P.O. Box 875046, Wasilla, AK 99687

Richard Encelewski or Representative, Ninilchik Natives Association, Inc., P.O. Box 39130, Ninilchik, AK 99639

Leo Barlow or Representative, Seldovia Native Association, Inc., 206 Main St., Seldovia, AK 99663

Penny Carty or Representative, Salamatof Native Association, Inc., 230 Main Street Loop, Kenai, AK 99611

Anita Eskillda or Representative, Native Village of Chitina, P.O. Box 31, Chitina, AK 99566-0031

Anne Thomas or Representative, Chitina Native Corporation, P.O. Box 3, Chitina, AK 99566-0031

Stephanie Thompson or Representative, Alexander Creek Incorporated, 8128 Cranberry, Anchorage, AK 99502

Veronica Nicholas or Representative, Native Village of Cantwell, P.O. Box 94, Cantwell, AK 99729

Debra Call or Representative, Knik Tribe, P.O. Box 871565, Wasilla, AK 99687

Charlene Nollner or Representative, Native Village of Gakona, P.O. Box 102, Gakona, AK 99586

Rose Tepp or Representative, Kenaitze Indian Tribe, P.O. Box 988, Kenai, AK 99611-0988

Beverley Matthews or Representative, Little Lake Louise Corporation, HC01 Box 1684B, Glennallen, AK 99588

Robin Campbell or Representative, Nenana Native Association, P.O. Box 369, Nenana, AK 99760

Penny Carty or Representative, Village of Salamatof, P.O. Box 2682, Kenai, AK 99611

Fran Seager-Boss or Representative, Matanuska-Susitna Borough, 350 East Dahlia Ave., Palmer, AK 99645

Robert Brean or Representative, Tanacross, Inc., P.O. Box 76029, Tanacross, AK 99776

Ethan Schutt or Representative, Cook Inlet Region, Inc., 2525 C. Street, Suite 500, Anchorage, AK 99503

Eric Rice or Representative, Village of Dot Lake, P.O. Box 2279, Dot Lake, AK 99737-2279

Jim Arnesen or Representative, Eklutna, Inc., 16515 Centerfield Dr., #201, Eagle River, AK 99577

Eileen Ewan or Representative, Gulkana Village, P.O. Box 254, Gakona, AK 99586

Michelle, Bayless or Representative, Native Village of Kluti-Kaah, P.O. Box 68, Copper Center, AK 99573-0068

Angie David or Representative, Mentasta Traditional Council, P.O. Box 6019, Mentasta Lake, AK 99780-6019

Ivan Encelewski or Representative, Ninilchik Village Tribe, P.O. Box 39070, Ninilchik, AK 99639

Crystal Collier or Representative, Seldovia Village Tribe, P.O. Drawer L, Seldovia, AK 99663

Ernest Arnold or Representative, Native Village of Tanacross, P.O. Box 76009, Tanacross, AK 99776

Rick Young or Representative, Native Village of Tazlina, P.O. Box 87, Glennallen, AK 99588-0087

Donald Adams or Representative, Native Village of Tetlin, P.O. Box 797, Tetlin, AK 99779

Jim Sackett or Representative, Toghotthele Corporation, P.O. Box 249, Nenana, AK 99760

Jennifer Harrison or Representative, Chickaloon Village Traditional Council, P.O. Box 1105, Chickaloon, AK 99674

Jerry Isaacs or Representative, Tanana Chiefs Conference, 122 1st Avenue, Suite 600, Fairbanks, AK 99701

Richard Segura or Representative, Kenai Native Association, Inc., 215 Fidalgo Avenue, Kenai, AK 99611

Representative, Montana Creek Native Association, P.O. Box 100379, Anchorage, AK 99510-0379

Larry Sinyon or Representative, Cheesh-Na Tribal Council/Mount Sanford Tribal Consortium, P.O. Box 357, Gakona, AK 99586

Ricky Hoff or Representative, Division of Environmental and Cultural Resources, Bureau of Indian Affairs, U.S. Department of the Interior, 3601 C. Street, Suite 1100, Anchorage, AK 99503-5947.

Gary David, Sr. or Representative, Tetlin Native Corporation, P.O. Box 657, Tok, AK 99780

Le Stephan or Representative, Native Village of Eklutna, 26339 Eklutna Village Road, Chugiak, AK 99567

Frank Standifer or Representative, Native Village of Tyonek, P.O. Box 82029, Tyonek, AK 99682

Jo Ann Polston or Representative, Healy Lake Traditional Council, P.O. Box 60300-Healy Lake #19, Fairbanks, AK 99706

Belinda Thomas or Representative, Northway Tribal Council, P.O. Box 516, Northway, AK 99764

Representative, Mendas Cha-ag Native Corporation, 457 Cindy Drive, Fairbanks, AK 99701

Sarah Obed or Representative, Doyon, Ltd., 1 Doyon Place, Suite 300, Fairbanks, AK 99701-2941

Any person on the official service list for the above-captioned proceeding may request inclusion on the restricted service list, or may request that a restricted service list not be established, by filing a motion to that effect within 15 days of this notice date. In a request for inclusion, please identify the reason(s) why there is an interest to be included. Also please identify any concerns about historic properties, including Traditional Cultural Properties. If historic properties are to be identified within the motion, please use a separate page, and label it NON-PUBLIC Information.

Any such motions may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street NE., Washington, DC 20426. Please put the project number (P-14241-000) on the first page of the filing.

If no such motions are filed, the restricted service list will be effective at the end of the 15 day period. Otherwise, a further notice will be issued ruling on any motion or motions filed within the 15 day period.

Dated: February 25, 2014.
Kimberly D. Bose,
Secretary.

[FR Doc. 2014-04609 Filed 2-28-14; 8:45 am]

BILLING CODE 6717-01-P